DEPARTMENT OF JUSTICE

Office of Justice Programs

Agency Information Collection Activities: Proposed Collection; Comments Requested

ACTION: 30-Day notice of information collection under review: School Crime Supplement (SCS) to the National Crime Victimization Survey (NCVS).

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 69, Number 88, on page 25414 on May 6, 2004, allowing for a 60-day comment period.

The purpose of this notice is to allow for an additional 30 days for public comment until September 23, 2004. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this Information Collection:

(1) Type of information collection: Extension of a currently approved collection.

(2) The title of the form/collection: School Crime Supplement to the National Crime Victimization Survey.

(3) The agency form number, if any, and the applicable component of the department sponsoring the collection: SCS-1.

(4) Affected public who will be asked or required to respond, as well as a brief abstract. Primary: Eligible individuals 12 to 18 years of age in the United States. The School Crime Supplement to the National Crime Victimization Survey collects, analyzes, publishes, and disseminates statistics on the school environment, victimization at school, exposure to fighting and bullying, availability of drugs and alcohol in the school, and attitudes related to fear of crime in schools.

(5) An estimate of the total number of respondents and the amount of time estimated for an average respondent to respond/reply: Approximately 12,200 persons 12 to 18 years of age will complete an interview. We estimate each interview will take 10 minutes to complete.

(6) An estimate of the total public burden (in hours) associated with the collection: The total respondent burden is approximately 2,038 hours.

If additional information is required contact: Brenda E. Dyer, Department Clearance Officer, United States Department of Justice, Justice Management Division, Policy and Planning Staff, Patrick Henry Building, Suite 1600, 601 D Street NW., Washington, DC 20530.

Dated: August 19, 2004.
Brenda E. Dyer,
Department Clearance Officer, Department of Justice.

[FR Doc. 04-19351 Filed 8-23-04; 8:45 am]

BILLING CODE 4410-18-P